DEPARTMENT OF THE INTERIOR

Fish and Wildlife Service

[FWS-R4-ES-2016-N116; FXES11130900000C2-167-FF09E32000]

Endangered and Threatened Wildlife and Plants; 5-Year Status Reviews of 14 Caribbean Species

AGENCY: Fish and Wildlife Service, Interior.

ACTION: Notice of initiation of reviews; request for information.

SUMMARY: We, the U.S. Fish and Wildlife Service (Service), are initiating 5-year status reviews of 14 Caribbean species under the Endangered Species Act of 1973, as amended (Act). A 5-year review is an assessment of the best scientific and commercial data available at the time of the review. We are requesting submission of information that has become available since the last review of each of these species.

DATES: To allow us adequate time to conduct these reviews, we must receive your comments or information on or before October 21, 2016. However, we will continue to accept new information about any listed species at any time.

ADDRESSES: For instructions on how to submit information and review information we receive on these species, see “Request for New Information.”

FOR FURTHER INFORMATION CONTACT: For species-specific information, see “Request for New Information.”

SUPPLEMENTARY INFORMATION:

Why do we conduct a 5-year review?

Under the Act (16 U.S.C. 1531 et seq.), we maintain lists of endangered and threatened wildlife and plant species in the Code of Federal Regulations (CFR) at 50 CFR 17.11 (for wildlife) and 17.12 (for plants). Section 4(c)(2)(A) of the Act requires us to review each listed species' status at least once every 5 years. Our regulations at 50 CFR 424.21 require that we publish a notice in the Federal Register announcing those species under active review. For additional information about 5-year reviews, go to http://www.fws.gov/endangered/what-we-do/recovery-overview.html, scroll down to “Learn More about 5-Year Reviews,” and click on our factsheet.

Species Under Review

Endangered

This notice announces our active review of 12 species that are currently listed as endangered:

Fish and Wildlife

Yellow-shouldered blackbird (Agelaius xanthomus)

Puerto Rican plain pigeon (Patagioenas inornata wetmorei)

Puerto Rican boa (Epicrates inornatus)

Virgin Islands boa (Epicrates monensis granti)

Plants

Auerodendron pauciflorum (no common name)

Catesbea melanocarpa (no common name)

Elaphoglossum serpens (no common name)

Mitracarpus maxwelliae (no common name)

Mitracarpus polycladus (no common name)

Polystichum calderonense (no common name)

Tectaria estremerana (no common name)

Trichilia triacantha (bariaco)

Threatened

This notice also announces our active review of two species that are currently listed as threatened:

Fish and Wildlife

Guajon (Elaphoglossum serpens)

Plants

Harrisia portoricensis (Higo chumbo)

What information do we consider in our review?

A 5-year review considers the best scientific and commercial data that have become available since the current listing determination or most recent status review of each species, such as:

A. Species biology, including but not limited to population trends, distribution, abundance, demographics, and genetics;

B. Habitat conditions, including but not limited to amount, distribution, and suitability;

C. Conservation measures that have been implemented to benefit the species;

D. Threat status and trends (see five factors under heading “How do we determine whether a species is endangered or threatened?”); and

E. Other new information, data, or corrections, including but not limited to taxonomic or nomenclatural changes, identification of erroneous information contained in the List, and improved analytical methods.

New information will be considered in the 5-year review and ongoing recovery programs for the species.

Definitions

A. Species means any species or subspecies of fish, wildlife, or plant, and any distinct population segment of any species of vertebrate which interbreeds when mature.

B. Endangered means any species that is in danger of extinction throughout all or a significant portion of its range.

C. Threatened means any species that is likely to become an endangered species within the foreseeable future throughout all or a significant portion of its range.

How do we determine whether a species is endangered or threatened?

Section 4(a)(1) of the Act establishes that we determine whether a species is endangered or threatened based on one or more of the following five factors:

A. The present or threatened destruction, modification, or curtailment of its habitat or range;

B. Overutilization for commercial, recreational, scientific, or educational purposes;

C. Disease or predation;

D. The inadequacy of existing regulatory mechanisms; or

E. Other natural or manmade factors affecting its continued existence.

Request for New Information

To do any of the following, contact the Service's Caribbean Ecological Services Field Office, Road 301, Km. 5.1, P.O. Box 491, Boquerón, PR 00622; fax 787-851-7440, or the specific person at that office associated with the species you are interested in below:

A. To get more information on a species;

B. To submit information on a species; or

C. To review information we receive, which will be available for public inspection by appointment, during normal business hours at the Caribbean Ecological Services Field Office at the address above.

Birds

• Yellow-shouldered blackbird (Agelaius xanthomus), and Puerto Rican plain pigeon (Patagioenas inornata wetmorei): For information on these species, contact José Cruz-Burgos, by phone at 787-851-7297, ext. 218, or by email at josé_cruz-burgos@fws.gov.

Reptiles

• Puerto Rican boa (Epicrates inornatus): For information on this species, contact Jan P. Zegarra, by phone at 787-851-7297, ext. 220, or by email at jan_zegarra@fws.gov.

• Virgin Islands boa (Epicrates monensis granti): For information on this species, contact Carlos Pacheco, by phone at 787-851-7297, ext. 221, or by email at carlos_pacheco@fws.gov.

Amphibians

• Guajón (Eleutherodacytlus cooki): For information on this species, contact Jan Zegarra (see contact information above).

Plants

• Auerodendron pauciflorum and Bariaco: For information on these species, contact José Martínez, by phone at 787-851-7297, ext. 219, or by email at jose_martinez@fws.gov.

• Catesbea melanocarpa: For information on this species, contact Maritza Vargas by phone at 787-851-7297 ext. 215 or by email at maritza_vargas@fws.gov.

• Mitracarpus maxwelliae and M. polycladus: For information on these species, contact Carlos Pacheco (see contact information above).

• Elaphoglossum serpens, Polystichum calderonense, Tectaria estremerana, and Harrisia portoricensis (higo chumbo): For information on these species, contact Xiomara Labiosa, by phone at 787-851-7297, ext. 213, or by email at Xiomara_labiosa@fws.gov.

We request any new information concerning the status of any of these 14 species. See “What information do we consider in our review?” heading for specific criteria. Information submitted should be supported by documentation such as maps, bibliographic references, methods used to gather and analyze the data, and/or copies of any pertinent publications, reports, or letters by knowledgeable sources.

Public Availability of Comments

Before including your address, phone number, email address, or other personal identifying information in your comment, you should be aware that the entire comment—including your personal identifying information—may be made publicly available at any time. While you can ask us in your comment to withhold your personal identifying information from public review, we cannot guarantee that we will be able to do so.

Authority

We publish this document under the authority of the Endangered Species Act (16 U.S.C. 1531 et seq.).

Dated: August 15, 2016.
Mike Oetker,
Acting Regional Director, Southeast Region.

[FR Doc. 2016-19940 Filed 8-19-16; 8:45 am]

BILLING CODE 4310-55-P